Title 3—

The President

Executive Order 13569 of April 5, 2011

Amendments to Executive Orders 12824, 12835, 12859, and 13532, Reestablishment Pursuant to Executive Order 13498, and Revocation of Executive Order 13507

By the authority vested in me as President by the Constitution and the laws of the United States of America, it is hereby ordered as follows:

Section 1. Executive Order 12824, of December 7, 1992 (“Establishing the Transportation Distinguished Service Medal”), as amended, is hereby further amended by striking “a member of the Coast Guard” in section 1 and inserting in lieu thereof “any member of the Armed Forces of the United States”.

Sec. 2. Executive Order 12835 of January 25, 1993 (“Establishment of the National Economic Council”), as amended, is hereby further amended by striking “(o) Assistant to the President for Energy and Climate Change;” in section 2 and inserting in lieu thereof “(o) Chair of the Council on Environmental Quality;”.

Sec. 3. Executive Order 12859 of August 16, 1993 (“Establishment of the Domestic Policy Council”), as amended, is hereby further amended by striking “(v) Assistant to the President for Energy and Climate Change;” in section 2 and inserting in lieu thereof “(v) Chair of the Council on Environmental Quality;”.

Sec. 4. Executive Order 13532 of February 26, 2010 (“Promoting Excellence, Innovation, and Sustainability at Historically Black Colleges and Universities”), is hereby amended by striking “34 C.F.R. 602.8” in section 4(a) and inserting in lieu thereof “34 C.F.R. 608.2”.

Sec. 5. The President's Advisory Council on Faith-Based and Neighborhood Partnerships, as set forth under the provisions of Executive Order 13498 of February 5, 2009, is hereby reestablished and shall terminate 2 years from the date of this order unless extended by the President.

Sec. 6. Executive Order 13507 of April 8, 2009 (“Establishment of the White House Office of Health Reform”), is hereby revoked.

Sec. 7. This order is not intended to, and does not, create any right or benefit, substantive or procedural, enforceable at law or in equity by any party against the United States, its departments, agencies, or entities, its officers, employees, or agents, or any other person.

THE WHITE HOUSE,

April 5, 2011.

[FR Doc. 2011-8642

Filed 4-7-11; 11:15 am]

Billing code 3195-W1-P